DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. 35). To request a copy of these documents, call the SAMHSA Reports Clearance Officer on (240) 276-1243.

Project: Project—Division of State Programs—Management Reporting Tool (DSP-MRT) (OMB No. 0930-0354)—Revision

The Substance Abuse and Mental Health Services Administration (SAMHSA)'s Center for Substance Abuse Prevention (CSAP) aims to address two of SAMHSA's top substance abuse prevention priorities: Underage drinking (UAD; age 12 to 20) and prescription drug misuse and abuse (PDM; age 12 to 25) through the Division of State Program—Monitoring and Reporting Tool. This data collection will allow all DSP programs to report into a standard tool that aligns with the Strategic Prevention Framework model. This request for data collection includes a revision from a previously approved OMB instrument formally known as Partnerships for Success-Management and Reporting Tool.

Monitoring data on SPF model will allow SAMHSA project officers to systematically collect data to monitor their grant program performance and outcomes along with grantee technical assistance needs. In addition to assessing activities related to the SPF steps, the performance monitoring instruments covered in this statement collect data to assess the following grantee required specific performance measures:

• Number of training and technical assistance activities per funded community provided by the grantee to support communities;

• Reach of training and technical assistance activities (numbers served) provided by the grantee;

• Percentage of subrecipient communities that submit data to the grantee data system;

• Number of sub-recipient communities that improved on one or more targeted NOMs indicators (Outcome);

• Number of grantees who integrate Prescription Drug Monitoring Data into their program needs assessment.

Changes to this package include the following:

• Standard language for all DSP-MRT questions;

• New disparities module to align with SAMHSA's monitoring requirements;

• Updated technical assistance section;

• Deletion of cost questions specific to funding amounts and in-kind resources;

• Deletion of advisory council and other workgroup sub-committee questions;

• Addition of Section A specific to SPF-Rx questions;

• Addition of Section B specific to PDO questions;

Annualized Data Collection Burden
Instrument | Number of respondents | Responses per respondent | Total number of responses | Hours per response | Total burden hours
Standard DSP Monitoring Tool | 136 | 4 | 544 | 3 | 1,632
Section A: Rx | 25 | 4 | 100 | 1 | 100
Section B: PDO | 42 | 2 | 84 | 1 | 84
Total | 136 |  | 728 |  | 1,816

Please note this notice supersedes the one that was published on 6/12/15.

Written comments and recommendations concerning the proposed information collection should be sent by July 17, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-12519 Filed 6-15-17; 8:45 am]

BILLING CODE 4162-20-P